DEPARTMENT OF HEALTH AND HUMAN SERVICES

Health Resources and Services Administration

Agency Information Collection Activities: Submission to OMB for Review and Approval; Public Comment Request; Chart Abstraction of Ryan White HIV/AIDS Program Recipient Data, OMB No. 0906-xxxx—New

AGENCY: Health Resources and Services Administration (HRSA), Department of Health and Human Services (HHS).

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than December 18, 2019.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Chart Abstraction of Ryan White HIV/AIDS Program Recipient Data, OMB No. 0906-xxxx—New.

Abstract: HRSA's Ryan White HIV/AIDS Program (RWHAP) funds and coordinates with cities, states, and local clinics/community-based organizations to deliver efficient and effective HIV care, treatment, and support to low-income people with HIV. Nearly two-thirds of clients (patients) live at or below 100 percent of the Federal poverty level and approximately three-quarters of RWHAP clients are racial and ethnic minorities. Since 1990, the RWHAP has developed a comprehensive system of HIV service providers who deliver high quality direct health care and support services to over half a million people with HIV—more than 50 percent of all people with diagnosed HIV in the United States.

HRSA is required to assess the quality of care provided by RWHAP grant recipients. HHS guidelines (e.g., Guidelines for the Use of Antiretroviral Agents in Adults and Adolescents Living with HIV; Guidelines for the Prevention and Treatment of Opportunistic Infections in HIV- Infected Adults and Adolescents; and Sexually Transmitted Diseases Treatment Guidelines, 2015) and U.S. Preventative Services Task Force (USPSTF) guidelines serve as the basis for assessing the quality of care within the RWHAP. The purpose of the Chart Abstraction of RWHAP Data study is to assess the extent to which the care provided with funding from the RWHAP is meeting the HHS and USPSTF guidelines. The study will collect data from RWHAP service providers via a provider screening phone interview, a provider pre-site visit interview, and medical records data abstraction. The data will reflect the full range of HIV outpatient ambulatory health services, primary care, and screening and treatment for hepatitis, sexually transmitted infections (STIs), and opioid use disorder provided by service providers and allow HRSA to assess the extent to which care provided by RWHAP service providers meets the HHS and USPSTF guidelines.

A 60-day notice was published in the Federal Register on May 10, 2019, vol. 84, No. 91; pp. 20638-20639. There were no public comments.

Need and Proposed Use of the Information: National RWHAP client-level data is collected through the RWHAP Client Level Data Reporting System. The RWHAP Client Level Data Reporting System dataset (OMB control number 0915-0323) is HRSA's primary source of annual, client-level data collected from its nearly 2,000 funded grant recipients/service providers and the data have been used to assess the numbers and types of clients receiving services and limited HIV outcomes. However, the RWHAP Client Level Data Reporting System dataset does not include relevant data in order to fully assess the extent to which the care provided by RWHAP service providers is meeting the HHS and USPSTF guidelines. This proposed new information collection request will provide the full range of HIV outpatient ambulatory health services, primary care, and screening and treatment for hepatitis, STIs, and opioid use disorder data and allow HRSA to assess the extent to which care provided by RWHAP service providers meets the HHS and USPSTF guidelines.

Likely Respondents: HRSA RWHAP Part A, Part B, Part C, and Part D service providers funded to deliver outpatient ambulatory health services to eligible clients.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

The burden estimate increased by 25 hours (0.5 hour increase for each medical record data abstraction) to a total of 225 hours (previous estimate was 200 hours as published in the 60-day notice on May 10, 2019 in Vol. 84, No. 91, pages 20638-20639). The burden estimate increased as the result of a pilot of the data collection forms.

Total Estimated Annualized Burden—Hours
Form name | Number of respondents | Number of responses per respondent | Total responses | Average burden per response (in hours) | Total burden hours
Provider Site screening interview | 100 | 1 | 100 | 0.5 | 50
Provider Pre-Site Visit Interview | 50 | 1 | 50 | 1.0 | 50
Medical Record Data Abstraction | 50 | 1 | 50 | 2.5 | 125
Total | 200 |  | 200 |  | 225

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2019-24910 Filed 11-15-19; 8:45 am]

BILLING CODE 4165-15-P